NATIONAL ARCHIVES AND RECORDS ADMINISTRATION

36 CFR Part 1280

[FDMS Docket NARA-09-003]

RIN 3095-AB60

Photography in Public Exhibit Space

AGENCY: National Archives and Records Administration (NARA).

ACTION: Final rule.

SUMMARY: NARA has revised its regulations on the use of film, photographic and videotape equipment inside the National Archives Building in Washington, DC. Filming, photographing, and videotaping for personal use will be prohibited in exhibits of the National Archives Experience (NAE) in Washington, DC, including the Declaration of Independence, the Constitution and the Bill of Rights (known as the Charters of Freedom) in the Rotunda of the National Archives Building. In 2003 NARA installed exhibit cases for displaying the Charters and other NAE documents to provide better clarity for viewing the exhibits. NARA seeks to ensure the necessary protection for the documents from the cumulative effects of photographic flash and to enhance the overall visitor experience.

DATES: This rule is effective February 24, 2010.

FOR FURTHER INFORMATION CONTACT: Marilyn Redman at telephone number 301-837-3174 or fax number 301-837-0319.

SUPPLEMENTARY INFORMATION: On July 31, 2009, NARA published a proposed rule in the Federal Register (74 FR 38153) for a 60-day public comment period. This proposed rule banned all filming, photographing and videotaping for personal use in exhibit areas of the National Archives Experience (NAE) in Washington, DC. The public comment period closed on September 29, 2009. In response, NARA received comments from three private citizens. All three of the commenters were opposed to the proposed rule.

Each of the commenters suggested that NARA install filters to the existing exhibit casing in order to protect the documents from damaging exposure to light sources. NARA used filters in earlier exhibit cases. Although, filters can remove high energy visible light and ultraviolet radiation, which are the most damaging light components, they do so by blocking some light in the blue and green part of the spectrum diminishing visibility of the display. NARA's 2003 renovations to the Rotunda included the removal of previously installed green filters to enhance the documents' visibility and show the true colors of the documents thereby improving the visitors' experience. For document protection, the National Archives now filters exhibit lighting at its source to remove all ultraviolet and high energy visible light.

One commenter suggested that the inability to take photographs would create problems for tourists and professional photographers. To be clear, professional photographers and members of the media will continue to be permitted to take photographs and video footage of the exhibits and documents on display in the NAE with special permission and with available light, e.g. without the use of any flash or steady light source, just as they have been allowed to do in the past pursuant to 36 CFR 1280.52. This final rule applies only to the general public, who are the source of most photographic flash from either accidental or intentional action.

Another comment submitted in response to the proposed rule questioned whether or not camera flash was truly harmful to documents. Current flash technology generally relies on halogen bulbs and the flash discharge contains a significant percent of ultraviolet radiation, a high energy radiation that can cause ink to fade and damage to paper and other supports. About a million visitors come to the National Archives exhibitions. The camera flashes that occur now, despite posted signs, add up to many thousands per year. We estimate 50,000 flash discharges in the Rotunda annually under present rules. The extra light and ultraviolet radiation from these flashes hastens damage to the documents.

Several comments raised concerns about the enactment of the proposed rule on the quality of the visitor experience. One letter suggested that every American needs to be encouraged to visit and photograph the documents on display. Another suggested that NARA must make the documents accessible and available to the public, and that by prohibiting photography, NARA will make its exhibits less useful to tourists because they will no longer be able to record their memories. The commenter further claimed that visitors are forced to shuffle past the documents at a pace that ensures only a brief glimpse of the documents before being asked to move along. Without a photograph to fall back on, their visit to NAE will only be a blurry memory.

NARA does not believe that this rule will create problems for tourists. The agency believes this rule creates a better visitor experience. Importantly, in 2003, NARA completed a two year renovation of the Rotunda and constructed additional exhibit space at the same time. Since the rededication of the Rotunda six years ago, visitors are no longer forced to shuffle past the documents at a regimented pace as the commenter states. Rather, visitors are permitted to enter the Rotunda in small groups to view the documents in any order they wish for as long as they wish. This system permits individuals and families to study the documents and discuss their meaning while also permitting visitors with limited time to satisfy their curiosity with a quick glance.

For the past five years, the staff has monitored the NAE's informal visitor comment log as well as letters received from visitors requesting and demanding that NARA eliminate all photography. Comments such as these vastly outnumber those requesting permission for flash photography usage. The requests from visitors to eliminate photography usually ask us to do so for three reasons: the ultraviolet light is detrimental to the documents; visitors using cameras do not bother to look at or read the documents; and those taking photographs keep other visitors from viewing the exhibits as they use excessive amounts of time lining up and blocking people from intruding into their camera shot.

The National Archives serves roughly a million visitors every year. During peak tourist season, the NAE can accommodate up to 4,500 each day. Over the past five years, the agency has monitored visitor traffic flow in the Rotunda of the NAE on a continual basis in an effort to improve the visitor experience. It has long been noted that visitors with cameras disrupt and dramatically slow down the flow of visitors and frustrate many of the eager visitors who are forced to wait to view our country's founding documents. By eliminating all filming, photographing and videotaping by the public in the exhibit areas, NARA expects to eliminate delays, and provide its visitors with a more rewarding experience. For those visitors who wish to take home an image of the documents, the National Archives Shop has facsimiles of various sizes and price ranges available for purchase. NARA also provides visitors with the ability to access and print digital images of the documents from the Boeing Learning Center free of charge. Finally, NARA has posted high quality images of documents on display at the NAE on its Web site http://www.archives.gov; visitors can download or print these images from their personal computers at no cost.

One final comment dealing with enforcement of the proposed rule suggested that any visitor with a photographic device on their person would be turned away and that overzealous security guards might subject visitors to harassment or bodily harm. NARA can assure this commenter that those hypothetical behaviors and policies will not happen. Visitors with photographic devices will be allowed to enter the building with their cameras, cell phones, and other photographic equipment. However, they will be met by appropriate signage and security personnel throughout the NAE to explain the “no photography” rule. In the event that a visitor makes the mistake of displaying or attempting to use a photographic device, they would first be warned that such behavior is not allowed. If, after they have received a warning, they continue to ignore the “no photography” rule they will be politely escorted from the building.

List of Subjects in 36 CFR Part 1280

Archives and records, Federal buildings and facilities.

For the reasons set forth in the preamble, NARA amends part 1280 of title 36, Code of Federal Regulations, as follows:

PART 1280—USE OF NARA FACILITIES

1. The authority citation for part 1280 continues to read as follows:

Authority: 44 U.S.C. 2102 notes, 2104(a), 2112, 2903

2. Amend § 1280.46 by:

a. Adding “and” to the end of paragraph (b)(1);

b. Removing “; and” from the end of paragraph (b)(2) and adding a period in its place; and

c. Redesignating paragraph (b)(3) as paragraph (c) and revising it to read as follows:

§ 1280.46 What are the rules for filming, photographing, or videotaping on NARA property for personal use?

* * * * *

(c) You may not film, photograph, or videotape in any of the exhibit areas of the National Archives Building in Washington, DC, including the Rotunda where the Declaration of Independence, the Constitution, and the Bill of Rights are displayed.

Dated: January 14, 2010.
David S. Ferriero,
Archivist of the United States.

[FR Doc. 2010-1331 Filed 1-22-10; 8:45 am]

BILLING CODE 7515-01-P